DEPARTMENT OF HOUSING AND URBAN DEVELOPMENT

[Docket No. FR-5907-N-53]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), call the toll-free Title V information line at 800-927-7588 or send an email to title5@hud.gov .

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 12-07, Parklawn Building, 5600 Fishers Lane, Rockville, MD 20857, (301)-443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 or send an email to title5@hud.gov for detailed instructions, or write a letter to Ann Marie Oliva at the address listed at the beginning of this Notice. Included in the request for review should be the property address (including zip code), the date of publication in the Federal Register, the landholding agency, and the property number.

For more information regarding particular properties identified in this Notice (e.g., acreage, floor plan, condition of property, existing sanitary facilities, exact street address), providers should contact the appropriate landholding agencies at the following address(es): AGRICULTURE: Ms. Debra Kerr, Department of Agriculture, OPPM, Property Management Division, Agriculture South Building, 300 7th Street SW., Washington, DC 20024, (202)-720-8873; AIR FORCE: Mr. Robert E. Moriarty, P.E., AFCEC/CI, 2261 Hughes Avenue, Ste. 155, JBSA Lackland TX 78236-9853, (315)-225-7384; COE: Ms. Brenda Johnson-Turner, HQUSACE/CEMP-CR, 441 G Street NW., Washington, DC 20314, (202)-761-7238; GSA: Mr. Flavio Peres, General Services Administration, Office of Real Property Utilization and Disposal, 1800 F Street NW., Room 7040 Washington, DC 20405, (202)-501-0084; INTERIOR: Mr. Michael Wright, Acquisition and Property Management, Department of the Interior, 3960 N. 56th Ave., #104 Hollywood, FL. 33021, (754)-400-7381; NASA: Mr. William Brodt, National Aeronautics AND Space Administration, 300 E Street SW., Room 2P85, Washington, DC 20546, (202)-358-1117; NAVY: Ms. Nikki Hunt, Department of the Navy, Asset Management Division, Naval Facilities Engineering Command, Washington Navy Yard, 1330 Patterson Ave. SW., Suite 1000, Washington, DC 20374, (202)-685-9426; VETERAN AFFAIRS: Ms. Jessica L. Kaplan, Director, Real Property Service, Department of Veterans Affairs, 810 Vermont Avenue NW. (003C1E), Washington, DC 20420, (202)-273-8234; (These are not toll-free numbers).

Dated: December 22, 2016.
Brian P. Fitzmaurice,
Director, Division of Community Assistance, Office of Special Needs Assistance Programs.

TITLE V, FEDERAL SURPLUS PROPERTY PROGRAM FEDERAL REGISTER REPORT FOR 12/30/2016

Suitable/Available Properties

Building

Colorado

Denver VA Medical Center

Campus Bldg. 25

1055 Clermont Street

Denver CO 80220

Landholding Agency: VA

Property Number: 97201640001

Status: Underutilized

Comments: 40+ yrs.; 400 sf.; generator shelter; past useful service life; access 7:30-4:00; contact VA for more information.

Building 39

Denver VA Medical Center

Denver CO 80220

Landholding Agency: VA

Property Number: 97201640002

Status: Underutilized

Comments: 32+ yrs. old; 454 sq. ft.; generator shelter, past useful service life; prior approval needed to gain access; contact VA for more information.

Building 25

Denver VA Medical Center Campus

Denver CO 80220

Landholding Agency: VA

Property Number: 97201640003

Status: Underutilized

Comments: 40+ yrs. old; 400 sq. ft.; generator shelter; past useful service life; prior approval needed to gain access; contact VA for more information.

Oregon

4 Buildings

Dale Buildings 007655 00

Dale OR 97869

Landholding Agency: Agriculture

Property Number: 15201640027

Status: Excess

Directions: 2830 (dale Lagoon Pumphouse) 14292010616; 2630 (Dale Old Tree Cooler (Rec. Storage))1640.009091; 2318 (Dale Pressure Reducing Enclosure) 1904.009091; 1847 (dale Utilities Bldg.) 1628.009091

Comments: off-site removal only; relocation extremely difficult due to size & type; 2830-48 sq. ft.; poor conditions; non-friable asbestos; & lead present; contact Agriculture for more details on a property listed above

Unsuitable Properties

Building

Alabama

Selma Fed. Bldg. & Courthouse

908 Alabama Avenue

Selma AL 36701

Landholding Agency: GSA

Property Number: 54201640010

Status: Excess

GSA Number: 4-G-AL-0819-AA

Comments: Polychlorinated biphenyls (PCBs)

Reasons: Contamination

4526 Lox Transfer Control House

Marshall Space Flight Center

Marshall Space Flight AL 35812

Landholding Agency: NASA

Property Number: 71201640016

Status: Underutilized

Comments: Public access denied and no alternative method to gain access without compromising national security.

Reasons: Secured Area

4525 Lox Transfer Control House

Marshall Space Flight Center

Marshall Space Flight AL 35812

Landholding Agency: NASA

Property Number: 71201640017

Status: Underutilized

Comments: Public access denied and no alternative method to gain access without compromising national security.

Reasons: Secured Area

4524A Test Support Building

Marshall Space Flight Center

Marshall Space Flight AL 35812

Landholding Agency: NASA

Property Number: 71201640018

Status: Underutilized

Comments: Public access denied and no alternative method to gain access without compromising national security.

Reasons: Secured Area

4523 Test Support Building

Marshall Space Flight Center

MSFC AL 35812

Landholding Agency: NASA

Property Number: 71201640019

Status: Underutilized

Comments: Public access denied and no alternative method to gain access without compromising national security.

Reasons: Secured Area

4522 Test Facility 500

Marshall Space Flight Center

MSFC AL 35812

Landholding Agency: NASA

Property Number: 71201640020

Status: Underutilized

Comments: Public access denied and no alternative method to gain access without compromising national security.

Reasons: Secured Area

4572 Propulsion & Structural

Test Facility

Marshall Space Flight Center

MSFC AL 35812

Landholding Agency: NASA

Property Number: 71201640021

Status: Underutilized

Comments: Public access denied and no alternative method to gain access without compromising national security; friable asbestos

Reasons: Contamination; Secured Area

4570 Advanced Propulsion

Research Facility

Marshall Space Flight Center

MSFC AL 35812

Landholding Agency: NASA

Property Number: 71201640022

Status: Unutilized

Comments: Public access denied and no alternative method to gain access without compromising national security; friable asbestos

Reasons: Secured Area; Contamination

Alaska

Building 59182 Control Tower

at Peandneau Range JBER

JBER AK 99505

Landholding Agency: Air Force

Property Number: 18201640046

Status: Excess

Comments: public access denied and no alternative method to gain access without compromising national security

Reasons: Secured Area

Latrine at Malmate Range

Building 59531 JBER

JBER AK 99506

Landholding Agency: Air Force

Property Number: 18201640047

Status: Unutilized

Comments: public access denied and no alternative method to gain access without compromising national security

Reasons: Secured Area

California

East Parking Area

Naval Air Station North Island

Coronado CA

Landholding Agency: Navy

Property Number: 77201640012

Status: Underutilized

Directions: 1.5 acres of land

Comments: Public access denied and no alternative method to gain access without compromising national security.

Reasons: Secured Area

Guam

Andersen AFB

Andersen AFB Family Housing

Andersen GU

Landholding Agency: Navy

Property Number: 77201640013

Status: Excess

Comments: Friable asbestos

Reasons: Contamination

Andersen AFB Family Housing

Robert's Terrace Housing Area

Andersen GU

Landholding Agency: Navy

Property Number: 77201640014

Status: Excess

Directions: Some Capehart Housing along Ponape Blvd.

Comments: Friable asbestos

Reasons: Contamination

Missouri

Table Rock Lake Project

TRL-45426

Cape Fair Recreation Area Pit Toilet

Cape Fair MO 65624

Landholding Agency: COE

Property Number: 31201640019

Status: Underutilized

Comments: Extensive deterioration; building in disrepair due to cracks in the foundation, walls & sidewalk.

Reasons: Extensive deterioration

01002 LONGBR-29279

Dwelling Frame W/Double Garage & Patio

30174 Visitor Center Road

Macon MO 63552

Landholding Agency: COE

Property Number: 31201640020

Status: Excess

Directions: Long Branch Project

Comments: Unsound foundation; black mold throughout; water damage on ceiling; fireplace collapsing.

Reasons: Extensive deterioration

Montana

3 Buildings

Tiber Dam Camp, N1/2, SW1/4, SE1/4

Chester MT 59522

Landholding Agency: Interior

Property Number: 61201640003

Status: Excess

Directions: R008400200B, R008400400B, R008400300B

Comments: Rodent damaged and extensive deterioration of wood; clear threat to physical safety

Reasons: Extensive deterioration

Nebraska

543800B117 Cattle Poleshed

#73 RPUID:03.55111

844 RD 313

Clay Center NE 68933

Landholding Agency: Agriculture

Property Number: 15201640026

Status: Excess

Directions: 19606 HRUSKA U.S. Meat Animal Research Center

Comments: Not structurally sound.

Reasons: Extensive deterioration

Nevada

FMA HSG 800-804

(&99011 Land Fee Pru)

Tonopah AFS Z164—WZVS

Tonopah NV 89049

Landholding Agency: Air Force

Property Number: 18201530002

Status: Excess

Directions: Fac #80000818213 #2 Victoria St.; 80100818212 #3 Victoria St.; 80300818210 #5 Victoria St.; 80300818209 #6 Victoria St.; 80400818208 #7 Victoria St.

Comments: Documented deficiencies: severely weather damaged; significant rodent infestation; clear threat of physical safety

Reasons: Extensive deterioration

Virgin Islands

Cinnamon Bay Concession Cottage

Cinnamon Bay Campground

on North Shore Road

St. John VI 00830

Landholding Agency: Interior

Property Number: 61201640002

Status: Underutilized

Directions: #1-10

Comments: Property located within floodway which has not been correct or contained; documented deficiencies; foundation is crumbling at the edges causing the stuccoed walls to sink.

Reasons: Floodway; Extensive deterioration

Unsuitable Properties

Land

California

Steam Plant

Naval Air Station North Island

Coronado CA

Landholding Agency: Navy

Property Number: 77201640010

Status: Underutilized

Directions: 2.62 acres of land

Comments: Public access denied and no alternative method to gain access without compromising national security.

Reasons: Secured Area

Steam Plant Parking Area

Naval Air Station North Island

Coronado CA

Landholding Agency: Navy

Property Number: 77201640011

Status: Underutilized

Directions: 1.1 acres of land

Comments: Public access denied and no alternative method to gain access without compromising national security.

Reasons: Secured Area

[FR Doc. 2016-31334 Filed 12-29-16; 8:45 am]

BILLING CODE 4210-67-P